DEPARTMENT OF TRANSPORTATION

Federal Railroad Administration

Safety Advisory 2023-06; Roadway Maintenance Machines—Importance of Clear Communications and Compliance With Applicable Rules and Procedures

AGENCY: Federal Railroad Administration (FRA), Department of Transportation (DOT).

ACTION: Notice of safety advisory.

SUMMARY: FRA is issuing Safety Advisory 2023-06 to emphasize the importance of rules and procedures regarding the safety of roadway workers who operate or work near roadway maintenance machines (RMM). This safety advisory recommends that railroads and contractors review and update their rules regarding the safety of roadway workers who operate or work near RMMs, communicate those changes to their employees, and monitor their employees for compliance with existing rules and procedures and updated rules and procedures, if implemented. In addition, this safety advisory recommends that railroads and contractors conduct additional safety briefings to raise workers' awareness of the hazards associated with operating and working around RMMs.

FOR FURTHER INFORMATION CONTACT: Yu-Jiang Zhang, Staff Director, Track and Structures Division, Office of Railroad Safety, FRA, 1200 New Jersey Avenue SE, Washington, DC 20590, telephone (202) 493-6460.

Disclaimer: This Safety Advisory is considered guidance pursuant to DOT Order 2100.6A (June 7, 2021). Except when referencing laws, regulations, policies, or orders, the information in this Safety Advisory does not have the force and effect of law and is not meant to bind the public in any way. This document does not revise or replace any previously issued guidance.

SUPPLEMENTARY INFORMATION:

Background

FRA is concerned about the incidents in the past few years resulting in fatalities of two roadway workers struck by RMMs on main line track. Information regarding these incidents, discussed below, is based on FRA's preliminary findings and the respective railroad's latest reporting. This safety advisory is not intended to attribute a cause to these incidents or place responsibility for these incidents on the acts or omissions of any person or entity.

The following is a summary of the circumstances involved in the incidents:

In August 2023, an RMM struck and fatally injured a contractor working on the Housatonic Railroad Company's main line. FRA's preliminary investigation shows that at the time of his injury, the contractor was part of a four-person work group. The work group consisted of two machine operators (each operating an RMM) and two roadway workers (each working on one of the RMMs). Before the incident, one of the RMMs (RMM-1) left the work area and traveled south to conduct repairs.

While waiting for RMM-1 to return, the remaining two roadway workers on the other RMM (RMM-2), including the worker who was subsequently fatally injured, dismounted RMM-2 to clear ballast away from the tie plates in preparation for the drilling and lag screw installation. One roadway worker used his hands to remove the ballast, while the other used a backpack blower. When RMM-1 returned to the work site, the worker using the backpack blower did not clear the track and was struck by RMM-1 when he did not respond to its approach.

In December 2021, a contractor working on the Norfolk Southern (NS) was fatally injured when struck by an RMM while working on the main line. The contractor was working with an NS rail gang and was marking rail for pickup and had started walking in the gauge of the track when the machine operator of the RMM made a backup move. The machine operator did not see the contractor walking in the gauge of the track and struck the contractor.

These incidents represent the worst-case scenario that can occur when roadway workers are working on or near RMMs. These incidents highlight the need for railroads to examine their rules and procedures for protecting roadway workers who operate or work near RMMs.

Recommendations

In light of the above discussion, FRA recommends that railroads and railroad contractors:

1. Review, update, and communicate applicable rules and procedures related to the operation of RMMs to ensure the safety of roadway workers who operate and work with or around the machines.

2. Increase monitoring of roadway workers, railroad employees, and contractors for compliance with all existing applicable rules and procedures (and any updated rules and procedures to result from paragraph (1)), particularly those involving the operation of RMMs and roadway workers working on and in the vicinity of RMMs.

3. Conduct additional safety briefings to raise workers' awareness of the hazards associated with operating and working around RMMs.

FRA encourages all railroad industry members to take actions consistent with the recommendations of this Safety Advisory. FRA may modify this Safety Advisory, issue additional safety advisories, or take other appropriate action necessary to ensure the highest level of safety on the Nation's railroads, including pursuing other corrective measures under its rail safety authority.

Issued in Washington, DC.
Amitabha Bose,
Administrator.

[FR Doc. 2023-21497 Filed 9-28-23; 8:45 am]

BILLING CODE 4910-06-P